DEPARTMENT OF HEALTH AND HUMAN SERVICES

Administration For Children and Families

45 CFR Part 1351

RIN 0970-AC04

Runaway and Homeless Youth Program

AGENCY: Administration on Children, Youth and Families (ACYF), Administration for Children and Families (ACF).

ACTION: Final rule.

SUMMARY: The Administration on Children, Youth and Families is amending the Runaway and Homeless Youth Program regulation requirement that grant project periods “will not exceed three years”, to provide that grant project periods “may be up to five years.”

EFFECTIVE DATE: This rule is effective October 16, 2000.

FOR FURTHER INFORMATION CONTACT: Stan Chappell (202) 205-8496

SUPPLEMENTARY INFORMATION:

I. Justification for Dispensing With Notice of Proposed Rulemaking

These regulations are being published in final form. The Administrative Procedure Act, 5 U.S.C. 553(b)(3)(B), provides that, if the Department for good cause finds that a notice of proposed rulemaking is unnecessary, impractical or contrary to the public interest, it may dispense with the notice if it incorporates a brief statement in the final regulations of the reasons for doing so. The Department finds that there is good cause to dispense with proposed rulemaking procedures for the following reasons:

(1) The regulatory change is non-controversial and purely technical. The change from three-year to five-year project periods would also be consistent with the Department's Grants Policy Directive that permits five-year project periods.

(2) Significant public comment, primarily from the grantee community which delivers the program services funded by the grants, has already been recently received on the change and overwhelmingly supported the five-year option.

(3) Publication of a final rule will enable grants in the upcoming series to be awarded under the new five-year option. This should result in a simpler administrative burden for both FYSB and the grantees involved, enabling both to focus more effectively on program quality and results.

For these reasons, we have concluded that a notice of proposed rulemaking is unnecessary.

II. Program Purpose

The mission of the Family and Youth Services Bureau (FYSB) is to provide national leadership on youth issues and to assist individuals and organizations in providing effective, comprehensive services for youth in at-risk situations and their families. A primary goal of FYSB programs is to provide positive alternatives for youth, ensure their safety, and maximize their potential to take advantage of available opportunities to develop into healthy, productive adults.

The Bureau's authorizing legislation provides authority to administer a discretionary grant program for Runaway and Homeless Youth (RHY) consistent with the provisions of the RHY Act (42 USC 5701 et seq.). Grants are awarded to public and private entities to support shelter services for runaway and homeless youth; outreach services to help protect young people on the streets from sexual abuse and exploitation; transitional living programs to help homeless youth become self-sufficient; and various research, demonstration, technical assistance and information dissemination activities relating to runaway youth and the promotion of positive youth development.

For twenty-five years, FYSB and the youth service field have created a strong continuum of care for youth growing up in difficult circumstances. More important, the Bureau and the field designed and promoted a youth development approach to working with all young people that remains the cornerstone of FYSB's work today.

The Bureau has experienced relatively stable appropriation support from Congress for the RHY Act grant programs every year since the enactment of the original legislation. Congress recently reauthorized the RHY Act in Pub. L. 106-71, and increased the level of funding over the previous year.

The major grant programs that support RHY services are:

Basic Center Program (BCP): Grants are awarded to youth shelters that provide emergency shelter, food, clothing, outreach services, and crisis intervention for runaway and homeless youth. The shelters also offer services to help reunite youth with their families, whenever appropriate.

Transitional Living Program (TLP): Grants are awarded to organizations to address the longer term housing needs of youths and assist them in developing skills that promote independence and prevent future dependency on social services. Housing and a range of services are provided for up to18 months for youth ages 16-21 who are unable to return to their homes.

Street Outreach Program (SOP): Grants are awarded to organizations to provide education and prevention services to runaway, homeless, and street youth who have been subjected to or are at risk of sexual exploitation or abuse.

State Youth Development Collaboration Projects (SYDCP): Grants are awarded to states to enable them to develop and support innovative youth development strategies.

FYSB also funds the following systems to support its grantees' efforts:

National Runaway Switchboard (NRS): The National Runaway Switchboard provides vital communication links and information to youth who are considering running away, who have run away, or who are experiencing other events or situations which might lead to a runaway episode.

National Clearinghouse on Families & Youth (NCFY): The National Clearinghouse on Families and Youth is the Family and Youth Services Bureau's (FYSB's) central information dissemination resource on youth and family policy and practice.

Training and Technical Assistance Services (T/TA): Ten regionally based organizations are funded to provide training and technical assistance (T/TA) to local youth services agencies.

III. Discussion of Final Rule

The regulations that govern the administration of the Runaway Youth Program grants are codified in Part 1351 of Title 45. The regulations were published in 1978. They have not been revised since the original publication date. Subpart B, subsection 1351.14 (a) of the regulations limits the duration of the project period of a grant to three years before requiring a grantee to recompete for funds.

The Family Youth and Services Bureau (FYSB) is proposing a final rule changing the three-year project period to a five-year project period at the discretion of the awarding agency.

The original Runaway and Homeless Youth Act legislation and the recent reauthorization legislation (Pub. L. 106-71) are silent on the duration of the project period. The Department's Grants Policy Directive (GPD) permits five-year project periods. The historical background of the regulations provides the reason why a three-year instead of a longer project period was adopted previously.

On April 22, 1975, notice of proposed rulemaking for the Runaway and Homeless Youth Programs, including a requirement that grant project periods would not exceed three years, was published in the Federal Register requesting public comments. Comments received expressed concern that the three-year time frame for grant project periods was limiting. In 1978, final rules governing RHY programs were published in the Federal Register. This rule addressed the comments received regarding the duration of grant project periods. It stated that the three-year time frames for the duration of grant project periods reflected the standard Federal budget period and the three-year duration of the RHY Act. No revisions have been made to the regulations since they were originally published. Our experience over the past 22 years, however, has shown that a 5 year project period would be more appropriate.

The Family Youth Services Bureau's decision to publish a final rule to extend the agency's discretion in awarding grants for five years is supported by a number of favorable comments from the public.

In our fiscal year 1999 Runaway and Homeless Youth (RHY) Program Priorities, published in the Federal Register on February 4, 1999, we informed the public that the Family and Youth Services Bureau (FYSB) was considering extending grant project periods to a maximum of five years. We received a considerable number of comments opining that this change would have a positive impact on the stability and planning of programs serving youth.

Commenters stated that longer term financial stability strengthens services to youth and families; enables youth and families in need of services to be able to count on a more stable resource; enables more youth and families to receive services; and enables newer agencies to establish a track record of performance. This can enhance their ability to gather further funds from other sources, where available. It also encourages innovative programming, by allowing the time to try new approaches, evaluate their effects, revise the approaches and re-evaluate them. It also enables agencies to attract and retain more high-quality staff (which results in more high quality programming for youth and their families). Similar considerations would apply to demonstration projects, such as State collaboration grants.

Several commenters questioned whether the government would have appropriate flexibility in dealing with poor performing grantees under the extended grant period. However, our grants are funded in one year increments regardless of the length of the project period. Continuation of funding is based on satisfactory performance of the previous grant year. The government may utilize various action options in dealing with poor performing grantees.

Over the years much has been learned from community based agencies about the impact of the duration of project periods on the implementation and operation of community-based programs servicing runaway, homeless and street youth. For example, community-based agencies have indicated that longer project periods enable them to devote a greater proportion of time and effort to working with youth and their families, and a smaller proportion of time and effort to writing grant applications and planning for program start-up and/or loss of funding.

The final rule will grant flexibility to the Department to simplify the grant application burden in appropriate cases. Grantees who receive five-year grant cycles will thus be able to devote more energy to service delivery and gain the financial stability of longer grant periods, thereby benefiting the populations and communities they serve. Less frequent grant reviews and awards will also enable the Department to devote resources to program quality and oversight instead of administrative procedures.

IV. Impact Analysis

Executive Order 12866

Executive Order 12866 requires that regulations be drafted to ensure that they are consistent with the priorities and principles set forth in the Executive Order. The Department has determined that this rule is consistent with those priorities and principles. This rule implements the statutory authority for the Department of Health and Human Services to award grants for Runaway and Homeless Youth (RHY) programs for periods up to five years. Originally, the RHY regulations set forth a maximum of three years. As explained in the Summary of this final rule, the proposed revision would grant flexibility to the Department to simplify the grant application burden of those grantees which had demonstrated an ability to deliver quality services and achieve desired results in compliance with program rules, as well as having other characteristics conducive to effective and efficient program operation. Grantees whom the Department deemed appropriate for five-year grant cycles would thus be able to devote more energy to service delivery and gain the financial stability of longer grant periods, thereby benefiting the populations and communities they serve.

Regulatory Flexibility Act of 1980

The Regulatory Flexibility Act (5 U.S.C. Chapter 6) requires the Federal government to anticipate and reduce the impact of rules and paperwork requirements on small entities. For each rule with a “significant economic impact on a substantial number of small entities,” an analysis must be prepared describing the rule's impact on small entities. Small entities are defined by the Act to include small businesses, small non-profit organizations, and small governmental entities. While these regulations would affect small entities, namely, the approximately 400 organizations that are recipients of various RHY grants, only those among the 400 deemed appropriate for the longer cycle would be affected, while the remaining grantees would continue to operate under the three-year period, at the Department's discretion. In any case, whatever the number of grantees evaluated as suitable for the longer periods, these would experience a reduced regulatory and paperwork burden by having to submit less frequent applications for new grants. For these reasons, the Secretary certifies that this rule will not have a significant economic impact on substantial numbers of small entities other than to permit the more efficient operation of a subset.

Paperwork Reduction Act

Under the Paperwork Reduction Act of 1995, Public Law 104-13, all Departments are required to submit to the Office of Management and Budget (OMB) for review and approval any reporting or record-keeping requirements inherent in a proposed or final rule. This final rule may indirectly affect record keeping and reporting.

Comments were solicited in the Federal Register on June 19, 2000. ACF will publish a notice in the Federal Register stating the currently valid OMB control number when approval is granted. An agency may not conduct or sponsor, and a person is not required to respond to, collection of information unless it displays a currently valid OMB control number.

Unfunded Mandates Reform Act of 1995

Section 202 of the Unfunded Mandates Reform Act of 1995 (2 U.S.C. 1532) requires that a covered agency prepare a budgetary impact statement before promulgating a rule that includes any Federal mandate that may result in the expenditure by State, local, and tribal government, in the aggregate, or by the private sector, of $100 million or more in any one year.

If a covered agency must prepare a budgetary impact statement, section 205 further requires that it select the least costly, most-effective or least burdensome alternative that achieves the objective of the rule and is consistent with the statutory requirements. In addition, section 203 requires a plan for informing and advising any small government that may be significantly or uniquely impacted by the proposed rule.

We have determined that this rule will not impose a mandate that will result in the expenditure by State, local and Tribal governments, in the aggregate, or by the private sector, of more than $100 million in any one year. Accordingly, we have not prepared a budgetary impact statement, specifically addressed the regulatory alternatives considered, or prepared a plan for informing and advising any significantly or uniquely impacted small government.

Congressional Review of Rulemaking

This rule is not a “major” rule as defined in Chapter 8 of 5 U.S.C.

The Family Impact Requirement

Section 654 of the Treasury and General Government Appropriations Act of 1999 requires a family impact assessment affecting family well being.

We have determined that this action will not affect the family. Therefore, no analysis or certification of the impact of this action was developed.

Federalism Impact

Executive Order 13132 on Federalism applies to policies that have federalism implications, defined as “regulations, legislative comments or proposed legislation, and other policy statements or actions that have substantial direct effects on the States, on the relationship between the national government and the States, or on the distribution of power and responsibilities among the various levels of government.” This rule does not have federalism implications as defined in the Executive Order.

List of Subjects in 45 CFR Part 1351

Administrative practice and procedure, Grant programs—social programs, Homeless, Reporting and recordkeeping requirements, Technical assistance, Youth.

(Catalog of Federal Domestic Assistance Program Number 93.623, Runaway Youth)
Dated: July 18, 2000.
Olivia A. Golden,
Assistant Secretary for Children and Families.

Approved: August 8, 2000.
Donna E. Shalala,
Secretary.

For the reasons set forth in the Preamble, 45 CFR Part 1351 is amended as follows:

1. The authority citation for Part 1351 continues to read as follows:

Authority: 42 U.S.C. 5701 et seq.

2. Section 1351.14 (a) is revised to read as follows:

§ 1351.14 What is the period for which a grant will be awarded?

(a) The initial notice of grant award specifies how long HHS intends to support the project without requiring the project to recompete for funds. This period, called the project period, will not exceed five years.

* * * * *

[FR Doc. 00-20799 Filed 8-16-00; 8:45 am]

BILLING CODE 4184-01-P